DEPARTMENT OF COMMERCE

National Oceanic and Atmospheric Administration

[RTID 0648-XA370]

Western Pacific Fishery Management Council; Public Meeting

AGENCY: National Marine Fisheries Service (NMFS), National Oceanic and Atmospheric Administration (NOAA), Commerce.

ACTION: Notice of public meetings.

SUMMARY: The Western Pacific Fishery Management Council (Council) will hold meetings of its American Samoa Archipelago Fishery Ecosystem Plan (FEP) Advisory Panel (AP), Hawaii Archipelago FEP AP, Mariana Archipelago FEP-Guam AP, and Mariana Archipelago FEP-Commonwealth of the Northern Mariana Islands (CNMI) AP to discuss and make recommendations on fishery management issues in the Western Pacific Region.

DATES: The American Samoa Archipelago FEP AP will meet on Wednesday, August 26, 2020, from 5 p.m. to 7 p.m.; the Hawaii Archipelago FEP AP will meet on Thursday, August 27, 2020, from 9 a.m. to 11 a.m.; the Mariana Archipelago FEP-Guam AP will meet on Saturday, August 29, 2020, from 9 a.m. to 11 a.m.; and the Mariana Archipelago FEP-CNMI AP will meet on Saturday, September 5, 2020, from 9 a.m. to 11 a.m. All times listed are local island times. For specific times and agendas, see SUPPLEMENTARY INFORMATION.

ADDRESSES: Each of the meetings will be held by web conference. Audio and visual portions for all of the web conferences can be accessed at: https://wprfmc.webex.com/join/info.wpcouncilnoaa.gov. Web conference access information will also be posted on the Council's website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: Public comment periods will be provided in the agenda. Information on how to provide public comment will be posted on the Council's website at www.wpcouncil.org. The order in which agenda items are addressed may change. The meetings will run as late as necessary to complete scheduled business.

Schedule and Agenda for the American Samoa FEP AP Meeting

Wednesday, August 26, 2020, 5 p.m.-7 p.m.

1. Welcome and Introductions

2. Review of the last AP meeting and recommendations

3. Council Issues

A. Development of an Offshore Energy Policy for the Western Pacific Region

B. Pacific Remote Island Area (PRIA) Marine Conservation Plan (MCP)-PRIA Objectives and Activities

C. Bottomfish Fishery Outreach and Data Collection

D. Considerations for Developing Reasonable and Prudent Measures (RPMs) and/or Reasonable and Prudent Alternatives (RPAs) for the American Samoa Longline Fishery

E. Mandatory Electronic Reporting in the Hawaii and American Samoa Longline Fisheries

F. Council Response to Executive Orders on Promoting American Seafood Competitiveness (E.O. 13921) and Regulatory Relief (E.O. 13924)

4. American Samoa Reports

5. Report on American Samoa Archipelago FEP AP Plan Activities

6. Island Fishery Issues and Activities

7. Public Comment

8. Discussion and Recommendations

9. Other Business

Schedule and Agenda for the Hawaii Archipelago FEP AP Meeting

Thursday, August 27, 2020, 9 a.m.-11 a.m.

1. Welcome and Introductions

2. Review of the last AP meeting and recommendations

3. Council Issues

A. Development of an Offshore Energy Policy for the Western Pacific Region

B. PRIA MCP-PRIA Objectives and Activities

C. Options for Mandatory Permitting and Reporting in the Hawaii Small-boat Fishery

D. Annual Catch Limits for Hawaii Uku Fishery

E. Mandatory Electronic Reporting in the Hawaii and American Samoa Longline Fisheries

F. Council Response to Executive Orders on Promoting American Seafood Competitiveness (E.O. 13921) and Regulatory Relief (E.O. 13924)

4. Hawaii Reports

5. Report on Hawaii Archipelago FEP AP Plan Activities

6. Island Fishery Issues and Activities

7. Public Comment

8. Discussion and Recommendations

9. Other Business

Schedule and Agenda for the Mariana Archipelago FEP-Guam AP Meeting

Saturday, August 29, 2020, 9 a.m.-11 a.m.

1. Welcome and Introductions

2. Review of the last AP meeting and recommendations

3. Council Issues

A. Development of an Offshore Energy Policy for the Western Pacific Region

B. PRIA MCP-PRIA Objectives and Activities

C. Bottomfish Fishery Outreach and Data Collection

D. Council Response to Executive Orders on Promoting American Seafood Competitiveness (E.O. 13921) and Regulatory Relief (E.O. 13924)

4. Guam Reports

5. Report on Mariana Archipelago FEP Advisory Panel Plan Activities

6. Island Fishery Issues and Activities

7. Public Comment

8. Discussion and Recommendations

9. Other Business

Schedule and Agenda for the Mariana Archipelago FEP-CNMI AP Meeting

Saturday, September 5, 2020, 9 a.m.-11 a.m.

1. Welcome and Introductions

2. Review of the last AP meeting and recommendations

3. Council Issues

A. Development of an Offshore Energy Policy for the Western Pacific Region

B. PRIA MCP-PRIA Objectives and Activities

C. Bottomfish Fishery Outreach and Data Collection

D. Council Response to Executive Orders on Promoting American Seafood Competitiveness (E.O. 13921) and Regulatory Relief (E.O. 13924)

4. CNMI Reports

5. Report on Mariana Archipelago FEP AP Plan Activities

6. Island Fishery Issues and Activities

7. Public Comment

8. Discussion and Recommendations

9. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: August 7, 2020.
Tracey L. Thompson,
Acting Deputy Director, Office of Sustainable Fisheries, National Marine Fisheries Service.

[FR Doc. 2020-17643 Filed 8-11-20; 8:45 am]

BILLING CODE 3510-22-P